DEPARTMENT OF HEALTH AND HUMAN SERVICES

Substance Abuse and Mental Health Services Administration

Fiscal Year (FY) 2024 Notice of Reissued Funding Opportunity

AGENCY: Substance Abuse and Mental Health Services Administration, Department of Health and Human Services.

ACTION: Notice of intent to reissue the Women's Behavioral Health Technical Assistance Center Notice of Funding Opportunity (NOFO).

SUMMARY: This notice is to inform the public that the Substance Abuse and Mental Health Service Administration plans to withdraw the previously announced notice of funding opportunity (NOFO) for the Women's Behavioral Health Technical Assistance Center SM-24-012 and reissue the NOFO as the National Women's Behavioral Health Technical Assistance Center SM-25-014. The revised NOFO includes updates to the required activities and application evaluation criteria. The cancellation of NOFO SM-24-012 does not represent an assessment of the technical merits of any applications submitted. SAMHSA will notify organizations that submitted an application.

FOR FURTHER INFORMATION CONTACT: Nima Sheth, Center for Mental Health Services, Substance Abuse and Mental Health Services Administration, 5600 Fishers Lane, Rockville, MD 20857; telephone: 240-276-0513; email: Nima.sheth@samhsa.hhs.gov.

SUPPLEMENTARY INFORMATION:

Funding Opportunity Title: FY 2024 Women's Behavioral Health Technical Assistance Center, SM-24-012.

Assistance Listing Number: 94.243.

Authority: Section 2702 of the American Rescue Plan Act.

Justification: Changes to the required activities and application evaluation criteria are needed to: ensure appropriate programmatic capacity of applicants to carry out the required activities; ensure that applicants are knowledgeable about best practices and standards in women's mental health and substance use care; clarify the recipients of training and technical assistance (TTA); clarify the intended program impacts; clarify the expectations for the Consultative Meeting Board meeting frequency and format; ensure that applicants can demonstrate the capacity for and experience with TTA activities that have a national reach; clarify expectations on use of data to monitor and enhance program performance; clarify that the program goals and objectives span all five years of the grant program.

Dated: December 10, 2024.
Ann Ferrero,
Public Health Analyst.

[FR Doc. 2024-29467 Filed 12-13-24; 8:45 am]

BILLING CODE 4162-20-P